DEPARTMENT OF ENERGY

Federal Energy Regulatory Commission

Combined Notice of Filings

Take notice that the Commission has received the following Natural Gas Pipeline Rate and Refund Report filings:

Filings Instituting Proceedings

Docket Numbers: RP19-483-000.

Applicants: Texas Eastern Transmission, LP.

Description: § 4(d) Rate Filing: Negotiated Rate—MC Global 1-1-19 Release to Tenaska to be effective 1/1/2019.

Filed Date: 12/21/18.

Accession Number: 20181221-5010.

Comments Due: 5 p.m. ET 1/2/19.

Docket Numbers: RP19-484-000.

Applicants: Tallgrass Interstate Gas Transmission, L.

Description: § 4(d) Rate Filing: Housekeeping to remove expired contracts to be effective 1/21/2019.

Filed Date: 12/21/18.

Accession Number: 20181221-5231.

Comments Due: 5 p.m. ET 1/2/19.

Docket Numbers: RP19-485-000.

Applicants: Algonquin Gas Transmission, LLC.

Description: § 4(d) Rate Filing: Negotiated Rate—Yankee to Direct Energy 798447 to be effective 12/22/2018.

Filed Date: 12/21/18.

Accession Number: 20181221-5266.

Comments Due: 5 p.m. ET 1/2/19.

Docket Numbers: RP19-486-000.

Applicants: Tres Palacios Gas Storage LLC.

Description: § 4(d) Rate Filing: Tres Palacios Gas Storage LLC—Filing of Tariff Changes to be effective 1/21/2019.

Filed Date: 12/21/18.

Accession Number: 20181221-5270.

Comments Due: 5 p.m. ET 1/2/19.

Docket Numbers: RP19-487-000.

Applicants: Equitrans, L.P.

Description: Compliance filing Operational Purchases and Sales Report for 2018 to be effective N/A.

Filed Date: 12/21/18.

Accession Number: 20181221-5287.

Comments Due: 5 p.m. ET 1/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2018.
Nathaniel J. Davis, Sr.,
Deputy Secretary.

[FR Doc. 2018-28479 Filed 1-7-19; 8:45 am]

BILLING CODE 6717-01-P